FEDERAL COMMUNICATIONS COMMISSION

47 CFR Part 73

[MM Docket No. 87-97; RM-5598]

Radio Broadcasting Services; Laughlin, NV

AGENCY: Federal Communications Commission.

ACTION: Correcting amendment.

SUMMARY: This document contains a correction to Section 73.202(b), FM Table of Allotments, under Nevada for the community of Laughlin.

DATES: Effective March 11, 2004.

FOR FURTHER INFORMATION CONTACT: Victoria McCauley, Media Bureau (202) 418-2180.

SUPPLEMENTARY INFORMATION: In 1987, the Commission allotted Channel 300C1 to Laughlin, Nevada. See 52 FR 38766 (October 19, 1987). The channel is not currently listed in the FM Table of Allotments, Section 73.202(b) under Nevada for the community of Laughlin. Station KVGS(FM) obtained a license for this channel on May 13, 1992. See BLH-19910903KD. Station KVGS(FM) currently operates on Channel 300C at Laughlin, Nevada because the station was granted a license to specify operation on Channel 300C in lieu of Channel 300C1 at Laughlin, Nevada on June 20, 2001. See BLH-20010327ABN.

Need for Correction

The Code of Federal Regulations must be corrected to include Channel 300C at Laughlin, Nevada.

List of Subjects in 47 CFR Part 73

Radio, Radio broadcasting.

Accordingly, 47 CFR part 73 is corrected by making the following correcting amendment:

PART 73—RADIO BROADCAST SERVICES

1. The authority citation for Part 73 continues to read as follows:

Authority: 47 U.S.C. 154, 303, 334, and 336.

§ 73.202 [Amended]

2. Section 73.202(b), the Table of FM Allotments under Nevada, is amended by adding Channel 300C at Laughlin.

Dated: February 12, 2004.
Federal Communications Commission.
John A. Karousos,
Assistant Chief, Audio Division, Media Bureau.

[FR Doc. 04-5416 Filed 3-10-04; 8:45 am]

BILLING CODE 6712-01-P